DEPARTMENT OF STATE

[Public Notice: 11680]

Update on Report to Congress Pursuant to Section 353(d)(1)(A) of the United States—Northern Triangle Enhanced Engagement Act

ACTION: Notice of report.

SUMMARY: This document, submitted to the Congress on March 9, 2022, provides an update to the State Department's report to Congress regarding persons in El Salvador, Guatemala, Honduras, and Nicaragua: Foreign persons determined to have knowingly engaged in actions that undermine democratic processes or institutions; foreign persons determined to have knowingly engaged in significant corruption; and foreign persons determined to have knowingly engaged in obstruction of investigations into such acts of corruption, including the following: Corruption related to government contracts; bribery and extortion; the facilitation or transfer of the proceeds of corruption, including through money laundering; and acts of violence, harassment, or intimidation directed at governmental and nongovernmental corruption investigators. On November 10, 2021, the President signed the Reinforcing Nicaragua's Adherence to Conditions for Electoral Reform (RENACER) Act adding Nicaragua to the countries whose citizens are subject to the Section 353 Corrupt and Undemocratic Actors list.

SUPPLEMENTARY INFORMATION:

Update to Report to Congress on Foreign Persons who have Knowingly Engaged in Actions that Undermine Democratic Processes or Institutions, Significant Corruption, or Obstruction of Such Corruption in El Salvador, Guatemala, Honduras, and Nicaragua, Pursuant to Section 353(b) of the Department of State, Foreign Operations, and Related Programs Appropriations Act, 2021 (Div. FF, Pub. L. 116-260, as amended) Consistent with Section 353(b) of the United States—Northern Triangle Enhanced Engagement Act (Div. FF, Pub. L. 116-260) (the Act), as amended, this report update is being submitted to the House Foreign Affairs Committee, Senate Foreign Relations Committee, House Committee on the Judiciary, and the Senate Committee on the Judiciary.

Section 353(b) requires the submission of a report that identifies the following persons in El Salvador, Guatemala, Honduras, and Nicaragua: (1) Foreign persons determined to have knowingly engaged in actions that undermine democratic processes or institutions; (2) foreign persons determined to have knowingly engaged in significant corruption; and (3) foreign persons determined to have knowingly engaged in obstruction of investigations into such acts of corruption, including the following: Corruption related to government contracts; bribery and extortion; the facilitation or transfer of the proceeds of corruption, including through money laundering; and acts of violence, harassment, or intimidation directed at governmental and nongovernmental corruption investigators. On November 10, 2021, the President signed the Reinforcing Nicaragua's Adherence to Conditions for Electoral Reform (RENACER) Act, adding Nicaragua to the countries whose citizens are subject to Section 353.

Under Section 353, foreign persons identified under the Act are generally ineligible for visas and admission to the United States. Section 353 further requires that foreign persons identified under the Act shall have their visas revoked immediately and any other valid visa or entry documentation cancelled. Consistent with Section 353(g), this report update will be published in the Federal Register.

This report update includes individuals for whom the Department is aware of credible information or allegations of the conduct at issue, from media reporting and other sources. The Department will continue to review the individuals listed in the report and consider all available tools to deter and disrupt corrupt and undemocratic activity in El Salvador, Guatemala, Honduras, and Nicaragua. The Department also continues to actively review additional credible information and allegations concerning corruption or undemocratic activity and to utilize all applicable authorities, as appropriate, to ensure corrupt or undemocratic officials are denied safe haven in the United States. In light of the new statutory authority provided by RENACER, this update to the report identifies individuals in Nicaragua specifically who have knowingly engaged in actions that undermine democratic processes or institutions.

Nicaragua

Cairo Melvin Amador, current Vice President of the Supreme Electoral Council (CSE), undermined democratic processes or institutions by conspiring with the Ortega-Murillo regime to undermine Nicaragua's political institutions and subvert the November 2021 national election by disqualifying legitimate opposition parties and candidates on spurious grounds.

Lumberto Ignacio Campbell Hooker, current member of CSE and Acting President of the CSE from 2018 until May 2021, undermined democratic processes or institutions by conspiring with the Ortega-Murillo regime to undermine Nicaragua's political institutions and subvert the November 2021 national election by disqualifying legitimate opposition parties and candidates on spurious grounds.

Edwin Ramon Castro Rivera, member of the Nicaraguan National Assembly since 1997 and head of the FSLN caucus since 2007, undermined democratic processes or institutions by ensuring Ortega-Murillo loyalists won all magistrate positions in the CSE and ensuring the passage of extremely broad legislation that the Ortega-Murillo regime used to exclude opposition candidates and parties and harass and jail political opponents.

Karen Vanessa Chavarria Morales, current judge in the ninth district in Managua, undermined democratic processes or institutions by abusing her authority and subverting legal processes to take action against political opponents of the Ortega-Murillo regime and disqualify opposition candidates from the November 2021 election.

Walmaro Antonio Gutierrez Mercado, current member of the Nicaraguan National Assembly, undermined democratic processes or institutions by giving the Ortega-Murillo regime the tools to conduct its brazen assault on democracy by stacking the CSE with FSLN members loyal to Ortega and by helping ensure the passage of extremely broad legislation that the regime used to exclude opposition candidates and parties and harass and jail political opponents.

Carlos Wilfredo Navarro Moreira, current member of the Nicaraguan National Assembly, undermined democratic processes or institutions by giving the Ortega-Murillo regime the tools to conduct a brazen assault on democracy by stacking the CSE with FSLN members loyal to Ortega and by helping ensure the passage of extremely broad legislation that the regime has used to exclude opposition candidates and parties and harass and jail political opponents.

Maria Haydee Osuna Ruiz, current member of the Nicaraguan National Assembly, undermined democratic processes or institutions by conspiring with the Ortega-Murillo regime to subvert the November 2021 Nicaraguan national elections by signing a spurious complaint that served as pretext for the government to disqualify the last remaining legitimate opposition party and hound its leader into exile.

Gustavo Eduardo Porras Cortes, current President of the Nicaraguan National Assembly, undermined democratic processes or institutions by giving the Ortega-Murillo regime the tools to conduct its brazen assault on democracy by stacking the CSE with Sandinista members loyal to Ortega and by helping ensure the passage of extremely broad legislation that the Ortega-Murillo regime used to exclude opposition candidates and parties and harass and jail political opponents.

Brenda Isabel Rocha Chacon, current President of the CSE, undermined democratic processes or institutions by conspiring with the Ortega-Murillo regime to undermine Nicaragua's political institutions and subvert the November 2021 national election by disqualifying legitimate opposition parties and candidates on spurious grounds.

Dated: March 8, 2022.
Brian P. McKeon,
Deputy Secretary of State for Management and Resources.

[FR Doc. 2022-05589 Filed 3-16-22; 8:45 am]

BILLING CODE 4710-29-P